DEPARTMENT OF TRANSPORTATION

Office of the Secretary

Aviation Proceedings, Agreements Filed the Week Ending July 18, 2003

The following Agreements were filed with the Department of Transportation under the provisions of 49 U.S.C. 412 and 414. Answers may be filed within 21 days after the filing of the application.

Docket Number: OST-2003-15685.

Date Filed: July 15, 2003.

Parties: Members of the International Air Transport Association.

Subject:

PTC12 CAN-EUR 0094 dated June 17, 2003

TC12 Canada-Europe Resolutions r1-r16

Technical Correction—PTC12 CAN-EUR 0095 dated June 24, 2003

Minutes—PTC12 CAN-EUR 0096 dated July 15, 2003

Tables—PTC12 CAN-EUR Fares 0032 dated June 27, 2003

Intended effective date: November 1, 2003

Docket Number: OST-2003-15697.

Date Filed: July 16, 2003.

Parties: Members of the International Air Transport Association.

Subject:

PTC12 USA-EUR 0157 dated July 4, 2003

Mail Vote 308 r1-r18

TC12 North Atlantic USA-Europe (except between USA and Austria, Czech Republic, Finland, France, Germany, Iceland, Italy, Netherlands, Scandinavia, Switzerland)

PTC12 USA-EUR 0158 dated July 4, 2003

Mail Vote 309 r19-r34

TC12 North Atlantic USA-Europe (between USA and Austria, Czech Republic, Finland, France, Germany, Iceland, Italy, Netherlands, Scandinavia, Switzerland)

Minutes—PTC12 USA-EUR 0159 dated July 15, 2003

Tables—PTC12 USA-EUR Fares 0078 dated July 4, 2003

Intended effective date: November 1, 2003

Docket Number: OST-2003-15706.

Date Filed: July 17, 2003.

Parties: Members of the International Air Transport Association.

Subject:

Mail Vote 316

PTC123 0245 dated July 22, 2003

North, Mid, South Atlantic Passenger Amending Resolution from Sri Lanka r1-r14

Intended effective date: August 15, 2003.

Andrea M. Jenkins,
Program Manager, Docket Operations, Federal Register Liaison.

[FR Doc. 03-19241 Filed 7-28-03; 8:45 am]

BILLING CODE 4910-62-P